DEPARTMENT OF LABOR

Employment and Training Administration

[TA-W-37,268 and TA-W-37,268A]

Hampton Industries, Inc, Warrenton, North Carolina and Hampton Industries, Inc., Washington, North Carolina; Amended Certification Regarding Eligibility To Apply for Worker Adjustment Assistance

In accordance with Section 223 of the Trade Act of 1974 (19 U.S.C. 2273) the Department of Labor issued a Certification of Eligibility to Apply for Worker Adjustment Assistance on February 1, 2000, applicable to workers of Hampton Industries, Inc., Warrenton, North Carolina. The notice was published in the Federal Register on February 15, 2000 (65 FR 7563).

At the request of the company, the Department reviewed the certification for workers of the subject firm. New findings show that worker separations will occur at Hampton Industries' Washington, North Carolina facility when it closes in August, 2000. The workers are engaged in the production of men's and boys' casual shirts.

Accordingly, the Department is amending the certification to cover workers at Hampton Industries, Inc., Washington, North Carolina. The intent of the Department's certification is to include all workers of Hampton Industries, Inc. adversely affected by increased imports.

The amended notice applicable to TA-W-37,268 is hereby issued as follows:

“All workers of Hampton Industries, Inc., Warrenton, North Carolina (TA-W-37,268) and Washington, North Carolina (TA-W-37,268A) who became totally or partially separated from employment on or after January 24, 1999 through February 1, 2002 are eligible to apply for adjustment assistance under Section 223 of the Trade Act of 1974.”

Signed at Washington DC this 20th day of June, 2000.
Grant D. Beale,
Program Manager, Division of Trade Adjustment Assistance.

[FR Doc. 00-16497 Filed 6-28-00; 8:45 am]

BILLING CODE 4510-30-M